DEPARTMENT OF ENERGY

Environmental Management Site-Specific Advisory Board, Northern New Mexico

AGENCY: Office of Environmental Management, Department of Energy.

ACTION: Notice of open meeting.

SUMMARY: This notice announces an online virtual combined meeting of the Consent Order Subcommittee and Risk Evaluation and Management Subcommittee of the Environmental Management Site-Specific Advisory Board (EM SSAB), Northern New Mexico.

DATES: Wednesday, August 23, 2023; 9:00 a.m. to 12:00 p.m. MDT.

ADDRESSES: This meeting will be held virtually via WebEx. To attend, please contact Menice Santistevan by email, Menice.Santistevan@em.doe.gov, no later than 5:00 p.m. MDT on Friday, August 18, 2023.

FOR FURTHER INFORMATION CONTACT: Menice Santistevan, Northern New Mexico Citizens' Advisory Board (NNMCAB), 94 Cities of Gold Road, Santa Fe, NM 87506. Phone (505) 709-7063 or email: Menice.Santistevan@em.doe.gov.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Purpose of the Consent Order Subcommittee: The subcommittee reviews the 2016 Compliance Order on Consent, evaluate its strengths and weaknesses, and draft recommendations for the full Board's consideration as to how to improve it.

Purpose of the Risk Evaluation and Management Subcommittee: The subcommittee drafts external citizen-based recommendations for the full Board's consideration on human and ecological health risk resulting from historical, current, and future hazardous and radioactive legacy waste operations at Los Alamos National Laboratory.

Tentative Agenda:

• Monitoring of Storm Water at the Los Alamos National Laboratory.

• Discussion on Proposed Recommendation on Final Remedy for Material Disposal Area H.

Public Participation: The online virtual meeting is open to the public. To sign up for public comment, please contact Menice Santistevan by email, Menice.Santistevan@em.doe.gov, no later than 5:00 p.m. MDT on Friday, August 18, 2023. Written statements may be filed with the Committees either before or within five days after the meeting by sending them to Menice Santistevan at the aforementioned email address. The Deputy Designated Federal Officer is empowered to conduct the meeting in a fashion that will facilitate the orderly conduct of business. Individuals wishing to make public comments will be provided a maximum of five minutes to present their comments.

Minutes: Minutes will be available by writing or calling Menice Santistevan at the email address or telephone number listed above. Minutes and other Board documents are on the internet at: http://energy.gov/em/nnmcab/meeting-materials.

Signed in Washington, DC, on July 19, 2023.
LaTanya Butler,
Deputy Committee Management Officer.

[FR Doc. 2023-15678 Filed 7-24-23; 8:45 am]

BILLING CODE 6450-01-P